DEPARTMENT OF LABOR

Equal Employment Opportunity Commission

29 CFR Part 1602

Recordkeeping and Reporting Requirements Under Title VII, the ADA and GINA

CFR Correction

In Title 29 of the Code of Federal Regulations, Parts 900 to 1899, revised as of July 1, 2011, in Part 1602, remove the words “section 709(c) of title VII or section 107 of the ADA” and add in their place the words “section 709(c) of title VII, section 107 of the ADA, or section 207(a) of GINA” wherever they appear in the following sections:

Section | Page No.
§ 1602.11 | 175
§ 1602.12 | 175
§ 1602.19 | 177
§ 1602.26 | 179
§ 1602.37 | 181
§ 1602.45 | 184
§ 1602.54 | 186

[FR Doc. 2011-32746 Filed 12-20-11; 8:45 am]

BILLING CODE 1505-01-D